DEPARTMENT OF THE INTERIOR

Minerals Management Service

Notice on Outer Continental Shelf Oil and Gas Lease Sales

AGENCY: Minerals Management Service, Interior.

ACTION: List of Restricted Joint Bidders.

SUMMARY: Pursuant to the authority vested in the Director of the Minerals Management Service by the joint bidding provisions of 30 CFR 256.41, each entity within one of the following groups shall be restricted from bidding with any entity in any other of the following groups at Outer Continental Shelf oil and gas lease sales to be held during the bidding period May 1, 2010, through October 31, 2010. The List of Restricted Joint Bidders published in the Federal Register on November 23, 2009, covered the period November 1, 2009, through April 30, 2010.

Group I. Exxon Mobil Corporation, ExxonMobil Exploration Company.

Group II. Shell Oil Company, Shell Offshore Inc., SWEPI LP, Shell Frontier Oil & Gas Inc., Shell Onshore Ventures Inc., SOI Finance Inc., Shell Rocky Mountain Production LLC, Shell Gulf of Mexico Inc.

Group III. BP America Production Company, BP Exploration & Production Inc., BP Exploration (Alaska) Inc.

Group IV. Chevron Corporation, Chevron U.S.A. Inc., Chevron Midcontinent, L.P., Unocal Corporation, Union Oil Company of California, Pure Partners, L.P.

Group V. ConocoPhillips Company, ConocoPhillips Alaska, Inc., ConocoPhillips Petroleum Company, Phillips Pt. Arguello Production Company, Burlington Resources Oil & Gas Company L.P., Burlington Resources Offshore Inc., The Louisiana Land and Exploration Company, Inexco Oil Company.

Group VI. Eni Petroleum Co. Inc., Eni Petroleum US LLC, Eni Oil US LLC, Eni Marketing Inc., Eni BB Petroleum Inc., Eni US Operating Co. Inc., Eni BB Pipeline LLC.

Group VII. Petrobras America Inc., Petroleo Brasileiro S.A.

Group VIII. StatoilHydro ASA, Statoil Gulf of Mexico LLC, StatoilHydro USA E&P, Inc., StatoilHydro Gulf Properties Inc.

Dated: April 12, 2010.
S. Elizabeth Birnbaum,
Director, Minerals Management Service.

[FR Doc. 2010-10692 Filed 5-5-10; 8:45 am]

BILLING CODE 4310-MR-P